DEPARTMENT OF TRANSPORTATION

Federal Highway Administration

Environmental Impact Statement: Wayne County, Michigan

AGENCY: Federal Highway Administration (FHWA), DOT.

ACTION: Notice of 30-day extension of the comment period for the Draft Environmental Impact Statement (DETS) for the Detroit River International Crossing Study.

SUMMARY: FHWA is providing a 30-day extension of the original 60-day public comment period for the Draft Environmental Impact Statement (DEIS) for the Detroit River International Crossing Study (in Wayne County, Michigan). Pursuant to the National Environmental Policy Act (NEPA) of 1969, the FHWA made the DEIS available for public review and comments for a 60-day comment period that ended April 29, 2008. Two public hearings were held in March 2008. In response to several comments about the projects complexity and magnitude, FHWA is extending the comment period for an additional 30 days.

DATES: Public comments are due May 29, 2008.

The DEIS is available for an additional 30-day public review period. Comments must be e-mailed, faxed, or postmarked on or before May 29, 2008. A copy of the complete transcript, including all of the written and recorded oral comments received, will be available for public review at the listed locations. All submissions from organizations or businesses and from individuals identifying themselves as representatives or officials of organizations or businesses will be made available for public disclosures in their entirety.

ADDRESSES: 1. Document Availability: The document was made available to the public on February 25, 2008. Copies of the DEIS are available for public inspection and review on the project Web site http://www.partnershipborderstudy.com and at the following locations:

MDOT Bureau of Transportation Planning, 425 Ottawa St., Lansing;

MDOT Metro Region Office, 18101 W. Nine Mile Rd., Southfield;

MDOT Detroit Transportation Service Center, 1400 Howard St., Detroit;

MDOT Taylor Transportation Service Center, 25185 Goddard, Taylor;

Henry Ford Centennial Library, 16301 Michigan Ave., Detroit;

Detroit Public Library, 5201 Woodward Ave., Detroit;

Bowen Branch of the Detroit Public Library, 3648 W. Vernor, Detroit;

Library at Southwestern High School, 6921 W. Fort St., Detroit;

Delray Recreation Center, 420 Leigh St., Detroit;

Allen Park Library, 8100 Allen Rd., Allen Park;

Ecorse Library, 4184 W. Jefferson Ave., Ecorse;

Melvindale Library, 18650 Allen Rd., Melvindale;

River Rouge Library, 221 Burke St., River Rouge;

Kemeny Recreation Center, 2260 S. Fort St., Detroit;

Campbell Brand Library, 8733 W. Vernor Hwy., Detroit;

Neighborhood City Hall Central District, 2 Woodward Ave., Detroit;

Neighborhood City Hall Northwestern District, 19180 Grand River Ave., Detroit;

Neighborhood City Hall Northeastern District, 2328 E. Seven Mile Rd., Detroit;

Neighborhood City Hall Western District, 18100 Meyers Road, Detroit;

Neighborhood City Hall Eastern District, 7737 Kercheval St., Detroit;

Neighborhood City Hall Southwestern District, 7744 W. Vernor St., Detroit.

Copies of the DEIS may be requested from Bob Parsons (Public Involvement and Hearings Officer) at the Michigan Department of Transportation, 425 W. Ottawa Street, P.O. Box 30050, Lansing, MI 48909 or by calling (517) 373-9534.

2. Comments: Send comments on the DEIS to Michigan Department of Transportation, c/o Bob Parsons (Public Involvement and Hearings Officer), 425 W. Ottawa Street, P.O. Box 30050, Lansing, MI 48909; Fax: (517) 373-9255; or e-mail: parsonsb@michigan.gov.

FOR FURTHER INFORMATION CONTACT: Ryan Rizzo, Major Project Manager, FHWA Michigan Division, (517) 702-1833; David Williams, Environmental Program Manager, FHWA Michigan Division, (517) 702-1820.

SUPPLEMENTARY INFORMATION: The Detroit River International Crossing (DRIC) Study is a bi-national effort to complete the environmental study processes related to a new international crossing between Windsor, Ontario, and Detroit, Michigan. The Border Transportation Partnership (The Partnership) leads this study. It is formed of the following agencies: Federal Highway Administration (FHWA), Michigan Department of Transportation (MDOT), Transport Canada (TC) and Ontario Ministry of Transportation (MTO). The DRIC Study identifies solutions that support the region, State, provincial and national economies while addressing the civil and national defense and homeland security needs of the busiest trade corridor between the United States and Canada. The Detroit River, which separates the U.S. and Canada, currently has border crossings at the Ambassador Bridge (four lanes), the Detroit-Windsor Tunnel (two lanes), the Detroit-Canada Rail Tunnels, and the Detroit-Windsor Truck Ferry. These multi modal transportation links provide the connections for freight and passenger movements between the two countries. The DRIC Study includes transportation alternatives that improve border-crossing facilities, operations, and connections to meet existing and future mobility and security needs.

Purpose and Need for the Project: The purpose of the DRIC Study is to provide safe, efficient and secure movement of people and goods across the U.S.-Canadian border in the Detroit River area to support the economies of Michigan, Ontario, Canada and the United States, and to support the mobility needs of national and civil defense to protect the homeland.

To address future border crossing mobility requirements through 2035, there is a need to:

—Provide new border-crossing capacity to meet increased long-term demand;

—Improve system connectivity to enhance the seamless flow of people and goods;

—Improve operations and processing capability in accommodating the flow of people and goods; and

—Provide reasonable and secure crossing options (i.e., redundancy) in the event of incidents, maintenance, congestion, or other disruptions.

Alternatives Evaluated: The DEIS evaluates nine Build Alternatives in addition to a No Build Alternative. The nine Build Alternatives each include an interchange plaza, a customs inspection plaza, and a bridge from the plaza that spans the Detroit River. The DEIS analyzes the issues/impacts on the United State's side of the proposed new border crossing. A Canadian-produced set of documents analyzes the issues/impacts on the Canadian side.

The No-Build Alternative would not result in a new international border crossing system in the Detroit-Windsor area. Only the existing crossings, plazas and freeway connections, including the Gateway connection currently under construction, would continue operations. A second privately-owned bridge has been proposed by the Detroit International Bridge Company in the Ambassador Bridge Enhancement Environmental Assessment and was included in the No-Build Alternative.

Issued on: April 29, 2008.
James J. Steel,
Division Administrator, Lansing, Michigan.

[FR Doc. E8-10231 Filed 5-8-08; 8:45 am]

BILLING CODE 4910-22-M